UNITED STATES INSTITUTE OF PEACE

Announcement of the 2006 Solicited Initiative Effective October 1, 2006

AGENCY: United States Institute of Peace.

ACTION: Notice.

SUMMARY: The Agency Announces changes to its Upcoming Spring 2006 Solicited Grant Competition. The Solicited Initiative will focus on six countries as they relate to USIP's mandate and starting October 1, 2006, applications will be accepted throughout the year. The Solicited initiative is restricted to projects that fit specific themes or topics identified in advance by the Institute of Peace.

The 2006 Solicited Initiative will focus on the six countries outlined below. The specific themes and topics for each country may be found at our Web site at: http://www.usip.org/grants/solicited.html.

• Colombia

• Iran

• Iraq

• Nigeria

• Pakistan

• Sudan

Deadline: Starting October 1, 2006, USIP will accept solicited initiative applications throughout the year. Please visit our Web site at: http://www.usip.org/grants/solicited.html for specific information on the competition as well as instructions about how to apply.

ADDRESSES: If you are unable to access our Web site, you may submit an inquiry to: United States Institute of Peace, Grant Program, Solicited Initiative, 1200 17th Street, NW., Suite 200, Washington, DC 20036-3011. (202) 429-3842 (phone). (202) 833-1018 (fax). (202) 457-1719 (TTY). E-mail: grants@usip.org.

FOR FURTHER INFORMATION CONTACT: The Grant Program. Phone (202) 429-3842. E-mail: grants@usip.org.

Dated: June 1, 2006.
Michael Graham,
Vice President for Administration.

[FR Doc. 06-5129 Filed 6-5-06; 8:45 am]

BILLING CODE 6820-AR-M